DEPARTMENT OF AGRICULTURE

Food Safety and Inspection Service

[Docket No. FSIS-2015-0023]

Codex Alimentarius Commission: Meeting of the Codex Committee on Fish and Fishery Products

AGENCY: Office of the Under Secretary for Food Safety, USDA.

ACTION: Notice of public meeting and request for comments.

SUMMARY: The Office of the Under Secretary for Food Safety, U.S. Department of Agriculture (USDA), National Oceanic and Atmospheric Administration (NOAA), and the Food and Drug Administration (FDA), are sponsoring a public meeting on September 24, 2015. The objective of the public meeting is to provide information and receive public comments on agenda items and draft United States (U.S.) positions to be discussed at the 34th Session of the Codex Committee on Fish and Fishery Products (CCFFP) of the Codex Alimentarius Commission (Codex), taking place in Ålesund, Norway from October 19-24, 2015. The Under Secretary for Food Safety, the National Oceanic and Atmospheric Administration (NOAA), and the Food and Drug Administration recognizes the importance of providing interested parties the opportunity to obtain background information on the 34th Session of CCFFP and to address items on the agenda.

DATES: The public meeting is scheduled for September 24, 2015, from 1:00-4:00 p.m.

ADDRESSES: The public meeting will take place at the Food and Drug Administration (FDA), Center for Food Safety and Applied Nutrition (CFSAN), Harvey Wiley Building, Room 1A-002, 5100 Paint Branch Parkway, College Park, MD 20740. Documents related to the 34th Session of CCFFP will be accessible via the Internet at the following address: http://www.codexalimentarius.org/meetings-reports/en/.

Dr. William Jones, U.S. Delegate to the 34th Session of CCFFP, invites U.S. interested parties to submit their comments electronically to the following email address: William.Jones@fda.hhs.gov.

Call In Number: If you wish to participate in the public meeting for the 34th Session of the CCFFP, by conference call, Please use the call in number listed below:

Call in Number: 301-796-7777 or Toll Free: 855-828-1770, Participant Meeting ID: 17359750#, Participant Password: 4021401#

Registration: Attendees may register to attend the public meeting by emailing Melissa.Abbott@fda.hhs.gov by September 21, 2015. Early registration is encouraged because it will expedite entry into the building. The meeting will be held in a Federal building. Attendees should also bring photo identification and plan for adequate time to pass through security screening systems. Attendees who are not able to attend the meeting in person, but who wish to participate, may do so by phone.

FOR FURTHER INFORMATION CONTACT:

For Further Information About the 34th Session of CCFFP Contact: Dr. William Jones, Director, Division of Seafood Safety, Office of Food Safety,(HFS-325) U.S. Food and Drug Administration, 5100 Paint Branch Parkway, College Park, MD, 20740, Phone: (240) 402-2300, Fax: (301) 436-2601, Email: William.Jones@fda.hhs.gov.

For Further Information About the Public Meeting Contact: Paulo Almeida, U.S. Codex Office, 1400 Independence Avenue, Room 4861, Washington, DC 20250. Phone: (202) 205-7760, Fax: (202) 720-3157, Email: Paulo.Almeida@fsis.usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFFP is responsible for elaborating worldwide standards for fresh, frozen (including quick frozen) or otherwise processed fish, crustaceans and molluscs.

The Committee is hosted by Norway.

Issues To Be Discussed at the Public Meeting

The following items on the agenda for the 34th Session of CCFFP will be discussed during the public meeting:

• Matters Referred to the Committee by the Codex Alimentarius Commission and other Codex Committees

• Matters arising from the Work of FAO and WHO

• Draft Code of Practice for Processing of Fish Sauce

• Proposed Draft Code of Practice on the Processing of Fresh and Quick-Frozen Raw Scallop Products

• Proposed Draft Code of Practice for Fish and Fishery Products (section on sturgeon caviar)

• Proposed Food Additive Provisions in Standards for Fish and Fishery Products

• Discussion Paper on Nitrogen Factors (amendments to section 7.4 of the Standard for Quick Frozen Fish Sticks (Fish Fingers), Fish Portions and Fish Fillets-Breaded or in Batter (Codex STAN 166-1989)

• Code of Practice for Fish and Fishery Products (optional final product requirements for commodities/appendix on MAP)

• Discussion Paper on Histamine

• Other Business and Future Work

(a) New Work Proposal on a standard for Fresh Chilled Pirarucu Fillet or whole Fish

(b) Discussion Paper on the future of the Committee

Each issue listed will be fully described in documents distributed, or to be distributed, by the Secretariat prior to the Meeting. Members of the public may access or request copies of these documents (see ADDRESSES).

Public Meeting

At the September 24, 2015, public meeting, draft U.S. positions on the agenda items will be described and discussed, and attendees will have the opportunity to pose questions and offer comments. Written comments may be offered at the meeting or sent to the U.S. Delegate for the 34th Session of CCFFP, Dr. William Jones (see ADDRESSES). Written comments should state that they relate to activities of the 34th Session of CCFFP.

Additional Public Notification

Public awareness of all segments of rulemaking and policy development is important. Consequently, FSIS will announce this Federal Register publication on-line through the FSIS Web page located at: http://www.fsis.usda.gov/federal-register .

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email Email: program.intake@usda.gov.

Persons with disabilities who require alternative means for communication (Braille, large print, audiotape, etc.), should contact USDA's TARGET Center at (202) 720-2600 (voice and TDD).

Done at Washington, DC, on July 24, 2015.
Mary Frances Lowe,
U.S. Manager for Codex Alimentarius.

[FR Doc. 2015-18629 Filed 7-29-15; 8:45 am]

BILLING CODE 3410-DM-P